DEPARTMENT OF DEFENSE

Department of the Army

[Docket ID USA-2021-HQ-0006]

Proposed Collection; Comment Request

AGENCY: Program Executive Office, Enterprise Information Systems (PEO-EIS), Department of the Army, Department of Defense (DoD).

ACTION: Information collection notice.

SUMMARY: In compliance with the Paperwork Reduction Act of 1995, the U.S. Army Program Executive Office, Enterprise Information Systems (PEO-EIS) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2021.

ADDRESSES: You may submit comments, identified by docket number and title, by any of the following methods:

• Federal eRulemaking Portal: http://www.regulations.gov. Follow the instructions for submitting comments.

• Mail: The Department of Defense (DoD) cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Program Executive Office, Enterprise Information Systems (PEO-EIS), ATTN: Dan Rosado, Cyber Officer, Army Data and Analytics Platforms (ARDAP), 9351 Hall Road, Bldg 1456, Fort Belvoir, VA 22060 or call (703) 545-6678.

SUPPLEMENTARY INFORMATION:

Title; Associated Form; and OMB Number: Global Combat Support System—Army Self Registration, OMB Control Number 0702-XXXX.

Needs and Uses: The information collection requirement is necessary to allow Active Duty Military, Government Civilians, Defense Contractors, Foreign and local National Defense Employees to access GCSS-Army to execute tactical logistics transaction throughout the Department of the Army.

Affected Public: Individuals and households.

Annual Burden Hours: 635.5.

Number of Respondents: 3813.

Responses per Respondent: 1.

Annual Responses: 3813.

Average Burden per Response: 10 minutes.

Frequency: On occasion.

Users of the Enterprise Information Systems, Global Combat Support System-Army (GCSS-Army) are Active Duty Military, Government Civilians, Defense Contractors, Foreign and Local National Defense Employees who need to utilize it to perform logistics operations. These users utilize the Graphic User Interface (GUI) to input their personal data. The system then generates a user record in the system for each user, which allows the users to log into the system to perform their daily duties. There are no paper forms associated with this activity. It is essential to the Army's logistics mission for Active Duty Military, Government Civilians, Defense Contractors, Foreign and Local National Defense employees logging into the system to execute logistics transactions.

Dated: April 26, 2021.
Kayyonne T. Marston,
Alternate OSD Federal Register Liaison Officer, Department of Defense.

[FR Doc. 2021-08987 Filed 4-28-21; 8:45 am]

BILLING CODE 5001-06-P